Proclamation 10501 of November 30, 2022

National Impaired Driving Prevention Month, 2022

By the President of the United States of America

A Proclamation

During National Impaired Driving Prevention Month, we recommit to stopping avoidable traffic deaths and keeping America's roadways safe by driving sober, raising awareness, helping each other get home, and supporting fellow Americans who are struggling with substance use.

Over 10,000 American lives are lost to drunk and drug-impaired driving each year, accounting for nearly a third of all traffic deaths. In 2019, some 11 percent of Americans drove under the influence, including a staggering 19.6 percent of people aged 21-25—and that number has only grown since the COVID-19 pandemic began. Far too many families are left getting that gut-wrenching phone call after an accident—their worlds changed forever. Far too many passengers and pedestrians see their lives destroyed by someone else's bad decision, and far too many law enforcement officers put themselves at risk to keep impaired drivers off our roads. We owe it to them all to do everything we can to prevent future tragedies. That starts by working to reduce substance use disorders, raising awareness of the dangers of impaired driving; and investing in technologies that can help prevent crashes, injuries, and deaths.

At the same time, we are promoting life-saving tools that can keep people from driving under the influence. The Bipartisan Infrastructure Law, for example, provides funds for States to develop new technologies that can detect and prevent drunk and drug-impaired driving. It also requires all new passenger motor vehicles to be equipped with crash-averting features, like automatic emergency braking and collision warnings. The Department of Transportation is also partnering with State and local agencies and non-profits to educate the public through its Drive Sober or Get Pulled Over and If You Feel Different, You Drive Different media campaigns. We can all raise awareness within our own communities.

Starting with the American Rescue Plan, my Administration has secured billions of dollars to expand access to substance use services. We distributed $1.5 billion to fight the opioid epidemic this fall. We have asked the Congress for $24 billion more to fund prevention, treatment, and recovery programs across the country, especially in underserved communities. We are also asking the Congress for $18 billion to reduce the supply of illicit substances entering our country to help keep communities safe. And we are working to help end the stigma around addiction so more people feel free to seek the help they need.

During this holiday season especially, let us remember all those we have lost to impaired driving and take simple steps to save lives. I encourage every American to plan ahead how you will get home after drinking and to be sure that if you have used any substance you never get behind the wheel. Ride-share apps make it easier than ever to stay safe. And whenever you see loved ones or colleagues putting themselves or others at risk, step up to offer a hand. Lives depend on it.

NOW, THEREFORE, I, JOSEPH R. BIDEN JR., President of the United States of America, by virtue of the authority vested in me by the Constitution and the laws of the United States, do hereby proclaim December 2022 as National Impaired Driving Prevention Month. I urge all Americans to make responsible decisions and take appropriate measures to prevent impaired driving.

IN WITNESS WHEREOF, I have hereunto set my hand this thirtieth day of November, in the year of our Lord two thousand twenty-two, and of the Independence of the United States of America the two hundred and forty-seventh.

[FR Doc. 2022-26605

Filed 12-5-22; 8:45 am]

Billing code 3395-F3-P